JUDICIAL CONFERENCE OF THE UNITED STATES

Meeting of the Judicial Conference Advisory Committee on Rules of Criminal Procedure

AGENCY: Advisory Committee on Rules of Civil Procedure, Judicial Conference of the United States.

ACTION: Notice of open meeting.

SUMMARY: The Advisory Committee on Rules of Civil Procedure will hold a two-day meeting. The meeting will be open to public observation but not participation.

DATES: October 16-17, 2000.

TIMES: 8:30 a.m. to 5 p.m.

ADDRESSES: Westin La Paloma Hotel, 3800 East Sunrise Drive, Tucson, AZ.

FOR FURTHER INFORMATION CONTACT: John K. Rabiej, Chief, Rules Committee Support Office, Administrative Office of the United States Courts, Washington, DC 20544, telephone (202) 502-1820.

Dated: September 5, 2000.
John K. Rabiej,
Chief, Rules Committee Support Office.

[FR Doc. 00-23470 Filed 9-12-00; 8:45 am]

BILLING CODE 2210-55-M